DEPARTMENT OF THE INTERIOR

Bureau of Indian Affairs

Indian Gaming

AGENCY: Bureau of Indian Affairs, Interior.

ACTION: Notice of Amendment to Approved Tribal-State Compact

SUMMARY: This notice publishes the Approval of the Sixth Amendment to and Extension of the Agreement between the Crow Tribe of Montana and the State of Montana concerning Class III Gaming.

DATES: Effective Date: September 9, 2008.

FOR FURTHER INFORMATION CONTACT: George T. Skibine, Director, Office of Indian Gaming, Office of the Deputy Assistant Secretary—Policy and Economic Development, Washington, DC 20240, (202) 219-4066.

SUPPLEMENTARY INFORMATION: Pursuant to Section 11 of the Indian Gaming Regulatory Act of 1988 (IGRA), Public Law 100-497, 25 U.S.C. 2710, the Secretary of the Interior shall publish in the Federal Register notice of the approved Tribal-State compacts for the purpose of engaging in Class III gaming activities on Indian lands. This Amendment allows the Crow Tribe to offer simulcast horseracing and pari-mutuel betting, as well as sets forth minimum standards for the operation and licensing of the activity in accordance 25 U.S.C. 2710(d)(3)(C)(vi).

Dated: August 26, 2008.
George T. Skibine,
Acting Deputy Assistant Secretary for Policy and Economic Development.

[FR Doc. E8-20923 Filed 9-8-08; 8:45 am]

BILLING CODE 4310-4N-P